DEPARTMENT OF JUSTICE

[OMB Number 1140-0055]

Agency Information Collection Activities; Proposed eCollection eComments Requested; Title—Identifying/Marking Explosive Materials

AGENCY: Bureau of Alcohol, Tobacco, Firearms, and Explosives; Department of Justice.

ACTION: 30-Day notice.

SUMMARY: The Department of Justice (DOJ), Bureau of Alcohol, Tobacco, Firearms, and Explosives (ATF), will be submitting the following information collection request to the Office of Management and Budget (OMB) for review and approval in accordance with the Paperwork Reduction Act of 1995.

DATES: ATF encourages comments on this information collection. You may submit written comments for 30 days, until midnight on March 23, 2026.

ADDRESSES: Submit written comments and recommendations for this information collection to the following website: www.reginfo.gov/public/do/PRAMain. Find this particular information collection by selecting “Currently under 30-day Review—Open for Public Comments” or by using the search function and entering either the title of the information collection or the OMB control number: 1140-0055.

FOR FURTHER INFORMATION CONTACT: If you have questions, or need a copy of the proposed information collection instrument with instructions or additional information, please contact: Andy Stephenson, either by mail at EIPB, 99 New York Ave. NE, Room 6.N.518, Washington, DC 20226, by email at eipb-informationcollection@atf.gov, or by telephone at 207-272-5355.

SUPPLEMENTARY INFORMATION: The proposed information collection was previously published in the Federal Register, 90 FR 54762, on Friday, November 28, 2025, allowing a 60-day comment period. We encourage written comments and suggestions from the public and affected agencies concerning the proposed information collection. Your comments should address one or more of the following four points:

—Evaluate whether the proposed information collection is necessary to properly perform the identified functions of the Bureau, including whether the information will have practical utility;

—Evaluate the accuracy of the agency's estimate of the proposed information collection's burden, including the validity of the methodology and assumptions used;

—Evaluate whether, and if so how, the agency can enhance the quality, utility, and clarity of the information being collected; and

—Minimize the information collection's burden on those who are to respond, including through the use of appropriate automated, electronic, mechanical, or other technological collection techniques or other forms of information technology, e.g., permitting responses to be submitted electronically.

You may view this information collection request at www.reginfo.gov. Follow the instructions to view Department of Justice information collections currently under review by OMB and look for 1140-0055.

DOJ seeks PRA authorization for this information collection for three years. OMB authorization for an ICR cannot be for more than three years without renewal. DOJ notes that information collection requirements submitted to OMB for existing ICRs receive a month-to-month extension while they undergo review.

Overview of This Information Collection

1. Type of information collection: revising a previously approved collection.

2. Title of the form/collection: Identifying/Marking Explosive Materials.

3. Agency form number, if any, and the applicable component of the Department of Justice sponsoring the collection: Form number: none.

Component: Bureau of Alcohol, Tobacco, Firearms, and Explosives; U.S. Department of Justice.

4. Affected public who will be asked or required to respond, as well as a brief abstract:

Affected public: private sector for-profit institutions.

Abstract: To protect the public from misuse of explosives, implementing regulations at 27 CFR 555.109 require licensees/permittees to mark certain explosives they manufacture or import, as well as mark immediate containers and outside packaging. The markings must include certain information and be clear and permanent, though they can be done via sticky label, marker, etc. Some types of explosives are too small or too fluid, in a form that cannot be marked, and are excepted.

5. Obligation to respond: The obligation to respond is mandatory per 27 CFR part § 555.109.

6. Total estimated number of respondents: 103 respondents.

7. Estimated time per respondent: 3 seconds.

8. Frequency: 520 times annually.

9. Total estimated annual time burden: 45 total hours.

10. Total estimated annual other costs burden: $0.

Revisions to This Information Collection

Information Collection (IC) OMB 1140-0055 previously covered only manufacturer markings, and another information collection, 1140-0062, covered importer markings. However, to streamline the ICs covering markings for manufacturers and importers, ATF has decided to combine the two ICRs into this combined one, and has slightly revised the title to no longer limit it to manufacturers. In addition, the number of licensees/permittees in both groups has decreased since the last renewal for each ICR, for a combined decrease in licensees/permittees from 2,066 to 2,054, or a decrease of 12. In addition, ATF has updated the ICR to account for only the portion of these licensees/permittees that actually manufacture or import and distribute the kinds of explosives they are required to mark, which is five percent of the total licensees/permittees registered to manufacture or import, resulting in a further decrease in respondents affected by this ICR to 103 total. Consequently, the total responses and burden hours have also decreased due to the reduced number of respondents, from 895 hours to 45, or a reduction of 850 hours. In addition, due to a new request by OMB, the agency is including in this ICR a monetized value for the time, which it had not included in previous ICRs.

Public Comments

ATF did not receive comments on this information collection during the 60-day notice and comment period.

If you need additional information, contact: Darwin Arceo, Department Clearance Officer, Enterprise Portfolio Management, Justice Management Division; United States Department of Justice; Two Constitution Square, 145 N Street NE, 4W-218 Washington, DC 20530.

Dated: February 18, 2026.
Darwin Arceo,
Department Clearance Officer for PRA, U.S. Department of Justice.

[FR Doc. 2026-03394 Filed 2-19-26; 8:45 am]

BILLING CODE 4410-FY-P